DEPARTMENT OF COMMERCE

National Institute of Standards and Technology

[Docket Number: 210608-0123]

Promoting Access to Voting

AGENCY: National Institute of Standards and Technology, Department of Commerce.

ACTION: Request for information.

SUMMARY: Based on the requirements of E.O. 14019, Promoting Access to Voting, the National Institute of Standards and Technology (NIST) is seeking information about barriers to private and independent voting for people with disabilities. NIST, in consultation with the Department of Justice, the Election Assistance Commission, and other agencies, as appropriate, will analyze barriers, including access to voter registration, voting technology, voting by mail, polling locations, and poll worker training. Responses to this Request for Information (RFI) will inform NIST's development of recommendations.

DATES: Comments must be received by 5:00 p.m. Eastern time on July 16, 2021. Written comments in response to the RFI should be submitted according to the instructions in the ADDRESSES and SUPPLEMENTARY INFORMATION sections below. Submissions received after that date may not be considered.

ADDRESSES: Comments may be submitted by any of the following methods:

• Electronic submission: Submit electronic public comments via the Federal e-Rulemaking Portal.

1. Go to www.regulations.gov and enter NIST-2021-0003 in the search field,

2. Click the “Comment Now!” icon, complete the required fields, and

3. Enter or attach your comments.

• Email: Comments in electronic form may also be sent to pva-eo@list.nist.gov in any of the following formats: HTML; ASCII; Word; RTF; or PDF.

Please submit comments only and include your name, organization's name (if any), and cite “Promoting Access to Voting” in all correspondence.

FOR FURTHER INFORMATION CONTACT: For questions about this RFI contact: Kevin Mangold, NIST, at (301) 975-5628, or email Kevin.Mangold@nist.gov. Please direct media inquiries to NIST's Office of Public Affairs at (301) 975-2762. Users of telecommunication devices for the deaf, or a text telephone, may call the Federal Relay Service, toll free at 1-800-877-8339.

Accessible Format: On request to the program contact person listed under FOR FURTHER INFORMATION CONTACT, NIST will make the RFI available in alternate formats, such as Braille or large print, upon request by persons with disabilities.

SUPPLEMENTARY INFORMATION: As stated in Executive Order 14019, Promoting Access to Voting,¹ the right to vote is the foundation of American democracy. Under section 7 of Executive Order 14019, (Ensuring Equal Access for Voters with Disabilities), NIST is directed to evaluate the steps needed to ensure that the online Federal Voter Registration Form is accessible to people with disabilities.

¹ Exec. Order No. 14019, Promoting Access to Voting, 86 FR 13623 (Mar. 7, 2021).

This RFI outlines the information NIST is seeking from the public to inform the development of recommendations regarding both the Federal Voter Registration Form and other barriers it has identified that prevent people with disabilities from exercising their fundamental rights and the ability to vote privately and independently.

Request for Information

The following statements are not intended to limit the topics that may be addressed. Responses may include any topic believed to have implications for the development of recommendations to promoting access to voting for people with disabilities, regardless of whether the topic is included in this document. All relevant responses that comply with the requirements listed in the DATES and ADDRESSES sections of this RFI and set forth below will be considered.

Comments containing references, studies, research, and other empirical data that are not widely published should include copies of the referenced materials. All submissions, including attachments and other supporting materials, will become part of the public record and subject to public disclosure. NIST reserves the right to publish relevant comments publicly, unedited and in their entirety. All relevant comments received in response to the RFI will be made publicly available at https://www.nist.gov/itl/pva and at regulations.gov.

Personally identifiable information (PII), such as street addresses, phone numbers, account numbers or Social Security numbers, or names of other individuals, should not be included. NIST asks commenters to avoid including PII as NIST has no plans to redact PII from comments. Do not submit confidential business information, or otherwise sensitive or protected information. Comments that contain profanity, vulgarity, threats, or other inappropriate language or content will not be considered. NIST requests that commenters, to the best of their ability, only submit attachments that are accessible to people who rely upon assistive technology. A good resource for document accessibility can be found at: section508.gov/create/documents.

NIST is seeking the following information from voting technology vendors, election officials, persons with disabilities, disability advocacy groups, assistive technology vendors and professionals, non-partisan voting promotion groups, and other key stakeholders for the purpose of gathering information to foster greater voter access for people with disabilities:

1. Describe concerns regarding accessing the right to vote privately and independently for people with disabilities.

2. Describe effective strategies, techniques, and technologies for addressing the barriers faced by voters with disabilities throughout the voting process.

3. Describe barriers that people with disabilities encounter in getting useful information about the voting process.

4. Describe barriers that people with disabilities encounter with ballots, and in getting useful information about the items on the ballot.

5. Provide recommendations for improving voter access for people with disabilities.

6. Identify what has had the most impact enabling people with disabilities to vote privately and independently.

7. Identify gaps that remain in making voting accessible to people with disabilities.

8. Describe barriers that people with disabilities encounter with completing online forms for the voting process.

9. Describe barriers that people with disabilities encounter in getting useful information about their eligibility to vote.

10. Describe barriers that people with disabilities encounter with registering to vote.

11. Describe barriers that people with disabilities encounter using technology for the registration or voting process, whether online, in person, or via mail.

12. Describe the availability of accessible voting equipment.

13. Describe barriers that people with disabilities encounter with voting by mail.

14. Describe security considerations relevant to existing and potential technologies used by people with disabilities in the voting process.

15. Describe barriers that people with disabilities face at polling locations.

16. Describe the accessibility of polling places.

17. Identify areas where poll worker training can address barriers experienced by people with disabilities.

18. Identify areas where clearer or better policies can address barriers experienced by people with disabilities.

19. Describe any barriers that people with disabilities face to voting that disproportionately impact communities of color, persons who live in rural areas; and persons otherwise adversely affected by persistent poverty or inequality.

20. Of the concerns and barriers noted, identify the most serious and impactful barriers faced by voters with disabilities throughout the voting process.

Authority: Exec. Order No. 14019, Promoting Access to Voting, 86 FR 13623 (Mar. 7, 2021).

Alicia Chambers,
NIST Executive Secretariat.

[FR Doc. 2021-12619 Filed 6-15-21; 8:45 am]

BILLING CODE 3510-13-P